DEPARTMENT OF HOMELAND SECURITY

Coast Guard

33 CFR Part 117

[Docket No. USCG-2009-0537]

Drawbridge Operation Regulation; Red River Waterway, Torras, LA

AGENCY: Coast Guard, DHS.

ACTION: Notice of temporary deviation from regulations.

SUMMARY: The Commander, Eighth Coast Guard District, has issued a temporary deviation from the regulation governing the operation of the LA 15 Highway Drawbridge across the Red River Waterway, mile 1.0, near Torras, Louisiana. The deviation is necessary to allow time for conducting needed maintenance to the bridge. This deviation allows the bridge to remain in the closed-to-navigation position for a two week period.

DATES: This deviation is effective from 7 a.m. on October 19, 2009, to 5 p.m. on October 30, 2009.

ADDRESSES: Documents mentioned in this preamble as being available in the docket are part of docket USCG-2009-0537 and are available online by going to http://www.regulations.gov, selecting the Advanced Docket Search option on the right side of the screen, inserting USCG-2009-0537 in the Docket ID box, pressing Enter, and then clicking on the item in the Docket ID column. They are also available for inspections or copying at the Docket Management Facility (M-30), U.S. Department of Transportation, West Building Ground Floor, Room W12-140, 1200 New Jersey Avenue, SE., Washington, DC 20590, between 9 a.m. and 5 p.m., Monday through Friday, except Federal holidays,

FOR FURTHER INFORMATION, CONTACT: If you have questions on this rule, call or e-mail Roger K. Wiebusch, Bridge Administrator, Coast Guard; (314) 269-2378, Roger.K.Wiebusch@uscg.mil. If you have questions on viewing the docket, call Renee V. Wright, Program Manager, Docket Operations, telephone 202-366-9826.

SUPPLEMENTARY INFORMATION: The Louisiana Department of Transportation and Development requested a temporary deviation for the LA 15 Highway Drawbridge, across the Red River Waterway, Mile 1.0, near Torras, Louisiana, to remain in the closed-to-navigation position for a two-week period to facilitate critical maintenance. The LA 15 Highway Drawbridge currently operates in accordance with 33 CFR 117.5, which states the general requirement that drawbridges shall open promptly and fully for the passage of vessels when a request to open is given in accordance with the subpart. In order to facilitate the needed bridge work, the drawbridge must be kept in the closed-to-navigation position. This deviation allows the bridge to remain in the closed-to-navigation position and is effective from 7 a.m., October 19, 2009, to 5 p.m., October 30, 2009.

Navigation on the waterway consists primarily of commercial tows and recreational watercraft. Access from the Lower Mississippi River to the Atchafalaya River, Red River Waterway, and the Ouachita-Black Waterway is reached by passing under the subject bridge. Navigation will not be significantly impacted due to the scheduled closure of the Lower Old River Lock, at the same river mile as the subject bridge, for approximately 30 days commencing on or about October 15, 2009. The scheduled lock closure will preclude any requests for a bridge drawspan opening.

The LA 15 Highway Drawbridge navigation span has a vertical clearance of 74.0 feet above zero gauge at the bridge in the closed-to-navigation position. Performing maintenance on the bridge, when the number of vessels likely to be impacted is minimal, is preferred to bridge closure requirements during other times when the lock is operational. This temporary change to the drawbridge's operation has been coordinated with the commercial waterway operators and the Army Corps of Engineers.

To get to Baton Rouge, Louisiana by an alternate route from the Red River Waterway, users may transit down the Atchafalaya River and up the Port Allen Route, adding approximately two days to the transit. For vessels going further north or south of Baton Rouge, additional time would be spent on the transit.

This temporary deviation has been coordinated with waterway users. No objections were received.

Dated: August 7, 2009.
Roger K. Wiebusch,
Bridge Administrator, Eighth Coast Guard District (dwb).

[FR Doc. E9-20514 Filed 8-25-09; 8:45 am]

BILLING CODE 4910-15-P